DEPARTMENT OF HOMELAND SECURITY

Directorate of Information Analysis and Infrastructure Protection (IAIP); Open Meeting of National Infrastructure Advisory Council (NIAC)

AGENCY: Directorate of Information Analysis and Infrastructure Protection, DHS.

ACTION: Notice.

SUMMARY: The National Infrastructure Advisory Council (NIAC) will hold a briefing on the status of several Working Group activities that the Council undertook at its last meeting. The NIAC advises the President of the United States on the security of information systems for critical infrastructure supporting other sectors of the economy, including banking and finance, transportation, energy, manufacturing, and emergency government services.

DATES: The NIAC will meet Tuesday, July 13, 2004, from 11 a.m. to 2 p.m.

ADDRESSES: The NIAC will meet at the National Press Club Ballroom, 529 14th St, NW., 13th floor, Washington, DC 20045. Written comments may be submitted at any time before or after the meeting. However, to facilitate distribution of public presentation materials to NIAC members, the Council suggests that presenters forward the public presentation materials, ten days prior to the meeting date, to the following address Ms. Nancy J. Wong, Infrastructure Coordination Division, Directorate of Information Analysis and Infrastructure Protection, U.S. Department of Homeland Security, 14th Street and Constitution Avenue, NW., Room 6095, Washington, DC 20230.

FOR FURTHER INFORMATION CONTACT: Nancy J. Wong, 202-482-1929.

SUPPLEMENTARY INFORMATION: The meeting will be open to the public. Limited seating will be available. Reservations are not accepted. Notice of these meetings is given under the Federal Advisory Committee Act, 5 U.S.C. App. 2.

Agenda of Committee Meeting on July 13, 2004:

I. Opening of Meeting: Nancy J. Wong, U.S. Department of Homeland Security (DHS)/Designated Federal Official, NIAC

II. Roll Call of Members: NIAC Staff

III. Opening Remarks: Lt. Gen. Frank Libutti (USMC, ret.), Under Secretary for Information Analysis and Infrastructure Protection, DHS Homeland Security for Infrastructure Protection; (invited)

Frances Townsend, Assistant to the President and Homeland Security Advisor, Homeland Security Council; (invited)

Erle A. Nye, Chairman of the Board, TXU Corp.; Chairman, NIAC; and

John T. Chambers, President & CEO, Cisco Systems, Inc.; Vice Chairman, NIAC

IV. Status Reports on Pending Initiatives:

A. Hardening the Internet: George H. Conrades, Chairman & CEO, Akamai Technologies; NIAC Member

B. Prioritization of Cyber Vulnerabilities: Martin G. McGuinn, Chairman & CEO, Mellon Financial Corporation; NIAC Member

C. Common Vulnerability Scoring Subsystem: Vice Chairman Chambers; and John W. Thompson, Chairman & CEO, Symantec Corporation; NIAC Member

V. Final Report and Discussion on Evaluation Enhancement of Information Sharing Analysis: Thomas E. Noonan, Chairman, and President & CEO, Internet Security and Systems, Inc.;

VI. Adoption Of NIAC Recommendations: NIAC Members

VII. New Initiatives: Chairman Nye; NIAC Members

VIII. New Business: Chairman Nye; NIAC Members

IX. Adjournment

Procedural

These meetings are open to the public. Please note that the meetings may close early if all business is finished. At the discretion of the Chair, members of the public may make oral presentations during the meetings. If you would like to make an oral presentation at a meeting, please notify the Designated Federal Official and submit written material. If you would like a copy of your material distributed to each member of the Committee in advance of a meeting, please submit 25 copies to the Designed Federal Official (see ADDRESSES and DATES).

Information on Services for Individuals With Disabilities

For information on facilities or services for individuals with disabilities, or to request special assistance at the meeting, telephone the Designated Federal Official as soon as possible.

Dated: June 28, 2004.
Nancy J. Wong,
Designated Federal Official for NIAC.

[FR Doc. 04-15130 Filed 7-1-04; 8:45 am]

BILLING CODE 4410-10-P